NATIONAL SCIENCE FOUNDATION

Proposal Review Panel for Physics; Notice of Meeting

In accordance with the Federal Advisory Committee Act (Pub. L. 92-463, as amended), the National Science Foundation announces the following meeting.

Name: LIGO Laboratory Annual Review at Livingston Observatory for Physics.

Date and Time: Monday, April 25, 2011; 8 a.m.-6:30 p.m.; Tuesday, April 26, 2011; 8 a.m.-5:30 p.m.; Wednesday, April 27, 2011; 8:15 a.m.-11 a.m.

Place: LIGO site at Livingston, Louisiana.

Type of Meeting: Partially Closed.

Contact Person: Thomas Carruthers, Program Director, Division of Physics, National Science Foundation, (703) 292-7373.

Purpose of Meeting: To provide an evaluation of the project construction for implementation of the AdvLIGO project to the National Science Foundation.

Agenda

Monday, April 25, 2011

8 a.m.-8:30 a.m. Closed—Executive Session

8:40 a.m.-10:35 a.m. Open—Welcome, Charge to Panel, AdvLIGO status,

10:45 p.m.-11:40 a.m. Open—AdvLIGO Technical status (1)

11:45 Lunch

12:30 p.m.-1:30 p.m. Open—AdvLIGO technical status (2), Installation status

1:30 p.m.-2:15 p.m. Open—Integration planning

3 p.m.-4:15 p.m. Open—AdvLIGO Project Performance & Mgmt Report

4:15 Open—Breakout sessions

5:55 p.m.-6:30 p.m. Closed—Executive Session

Tuesday, April 26, 2011

8 a.m.-11:45 a.m. Open—Break out sessions

11:45 a.m. Lunch

12:15 p.m.-3:45 p.m. Open—Tour

3:45 p.m.-4 p.m. Open—Breakout sessions

4:00 p.m.-5:30 p.m. Closed—Executive Session

Wednesday, April 27, 2011

8 a.m.-10:30 a.m. Closed—Executive Session report writing

10:30 a.m.-11 a.m. Closed—Executive Session—closing address

Reason for Closing: The proposal contains proprietary or confidential material, including technical information on personnel. These matters are exempt under 5 U.S.C. 552b(c)(2)(4) and (6) of the Government in the Sunshine Act.

Dated: April 1, 2011.
Susanne Bolton,
Committee Management Officer.

[FR Doc. 2011-8126 Filed 4-5-11; 8:45 am]

BILLING CODE P